Proclamation 8764 of December 6, 2011

National Pearl Harbor Remembrance Day, 2011

By the President of the United States of America

A Proclamation

On a serene Sunday morning 70 years ago, the skies above Pearl Harbor were darkened by the bombs of Japanese forces in a surprise attack that tested the resilience of our Armed Forces and the will of our Nation. As explosions sounded and battleships burned, brave service members fought back fiercely with everything they could find. Unbeknownst to these selfless individuals, the sacrifices endured on that infamous day would galvanize America and come to symbolize the mettle of a generation.

In the wake of the bombing of our harbor and the crippling of our Pacific Fleet, there were those who declared the United States had been reduced to a third-class power. But rather than break the spirit of our Nation, the attack brought Americans together and fortified our resolve. Patriots across our country answered the call to defend our way of life at home and abroad. They crossed oceans and stormed beaches, freeing millions from the grip of tyranny and proving that our military is the greatest force for liberty and security the world has ever known. On the home front, dedicated civilians supported the war effort by repairing wrecked battleships, working in factories, and joining civilian defense organizations to help with salvage programs and plant Victory gardens. At this time of great strife, we reminded the world there is no challenge we cannot meet; there is no challenge we cannot overcome.

On National Pearl Harbor Remembrance Day, we honor the more than 3,500 Americans killed or wounded during that deadly attack and pay tribute to the heroes whose courage ensured our Nation would recover from this vicious blow. Their tenacity helped define the Greatest Generation and their valor fortified all who served during World War II. As a Nation, we look to December 7, 1941, to draw strength from the example set by these patriots and to honor all who have sacrificed for our freedoms.

The Congress, by Public Law 103-308, as amended, has designated December 7 of each year as “National Pearl Harbor Remembrance Day.”

NOW, THEREFORE, I, BARACK OBAMA, President of the United States of America, do hereby proclaim December 7, 2011, as National Pearl Harbor Remembrance Day. I encourage all Americans to observe this solemn day of remembrance and to honor our military, past and present, with appropriate ceremonies and activities. I urge all Federal agencies and interested organizations, groups, and individuals to fly the flag of the United States at half-staff this December 7 in honor of those American patriots who died as a result of their service at Pearl Harbor.

IN WITNESS WHEREOF, I have hereunto set my hand this sixth day of December, in the year of our Lord two thousand eleven, and of the Independence of the United States of America the two hundred and thirty-sixth.

[FR Doc. 2011-31743

Filed 12-7-11; 11:15 am]

Billing code 3295-F2-P